DEPARTMENT OF HEALTH AND HUMAN SERVICES

Centers for Disease Control and Prevention

Implementation of the James Zadroga 9/11 Health and Compensation Act of 2010 (Pub. L. 111-347)

SUMMARY: The National Institute for Occupational Safety and Health (NIOSH) of the Centers for Disease Control and Prevention (CDC), Department of Health and Human Services (HHS) announces a public meeting for receiving comments from the public on implementing the provisions of the James Zadroga 9/11 Health and Compensation Act of 2010 (Pub. L. 111-347). The Federal government is developing an implementation plan, and comments from the public will assist in this process by gaining perspectives from interested parties on ways to meet the Act's requirements.

Table of Contents

Date and Time

Address

Status

Security Considerations

Speaker Registration

Agenda

Contact Person for More Information

Supplementary Information

I. Background

II. Matters To Be Discussed

III. Transcripts

Date and Time: March 3, 2011, 9 a.m.-4:45 p.m., Eastern Time. Please note that public comments may end before the time indicated, following the last call for comments. Members of the public who wish to provide public comments should plan to attend the meeting at the start time listed.

Addresses: Jacob K. Javits Federal Building, 26 Federal Plaza, Broadway entrance, 6th Floor, Conference Room A/B, New York, New York 10278.

Status: The meeting is open to the public, limited only by the space available. The meeting space accommodates approximately 300 people. In addition, there will be an audio conference setup for those who cannot attend in person. The conference line will accommodate up to 300 callers. The USA toll-free dial-in number is 800-619-8873; pass code 8693287. Additionally, there is no registration fee to attend this public meeting.

Security Considerations: Due to mandatory security clearance procedures at the Jacob K. Javits Federal Building, in-person attendees must present valid government-issued picture identification to security personnel upon entering the building and go through an airport-type security check.

Non-U.S. citizens are encouraged to participate in the audio conferencing due to the extra clearance involved with in-person attendance. To attend in-person, a non-U.S. citizen will have to call or send an e-mail before February 16, 2011, to the contact person in this Notice, and provide passport information. If clearance is received, you will be notified; otherwise, you will not be able to attend the meeting in-person.

Speaker Registration: Individuals wishing to speak during the meeting may sign up on the speaker registration list which will be available at the meeting site beginning at 8:30 a.m., and during the meeting.

Agenda: The meeting will begin with a brief introduction by Federal officials, followed by presentations from attendees who register to speak. Each speaker will be limited to five minutes in order to maximize the number of presentations during the meeting. If all registered presentations are made before the end time, there will be an open session to receive comments from anyone who has not signed up on the speaker registration list who may wish to speak. Open session comments will also be limited to five minutes per person. After the last speaker or at 4:45 p.m., whichever occurs first, the meeting will be adjourned.

Contact Person for More Information: Roy Fleming, Sc.D., NIOSH, CDC, 1600 Clifton Road, NE., Mailstop E-20, Atlanta, Georgia 30333, Toll free: 1-866-426-3673, e-mail: nioshdocket@cdc.gov.

SUPPLEMENTARY INFORMATION:

I. Background

The James Zadroga 9/11 Health and Compensation Act of 2010 established a program known as the World Trade Center (WTC) Health Program within HHS. The program shall be administered by the WTC Program Administrator; the Act includes:

(1) Medical Monitoring for Responders—Medical monitoring, including clinical examinations and long-term health monitoring and analysis for enrolled WTC responders who were likely to have been exposed to airborne toxins that were released, or to other hazards, as a result of the September 11, 2001, terrorist attacks.

(2) Initial Health Evaluation for Survivors—An initial health evaluation, including an evaluation to determine eligibility for follow-up monitoring and treatment.

(3) Follow-up Monitoring and Treatment for WTC-Related Health Conditions for Responders and Survivors—Provision of follow-up monitoring and treatment and payment for all medically necessary health and mental health care expenses of an individual with respect to a WTC-related health condition (including necessary prescription drugs).

(4) Outreach—Establishment of an education and outreach program to potentially eligible individuals concerning the benefits under this title.

(5) Clinical Data Collection and Analysis—Collection and analysis of health and mental health data relating to individuals receiving monitoring or treatment benefits in a uniform manner in collaboration with the collection of epidemiological data.

(6) Research on Health Conditions—Establishment of a research program on health conditions resulting from the September 11, 2001, terrorist attacks.

A full copy of the James Zadroga 9/11 Health and Compensation Act of 2010 (Pub. L. 111-347) is available in NIOSH Docket #226, at: http://www.cdc.gov/niosh/docket/.

II. Matters To Be Discussed

Input from the public is sought on any of the provisions of the James Zadroga 9/11 Health and Compensation Act of 2010. The Federal government is developing an implementation plan, and comments from the public will assist in this process by gaining perspectives from interested parties on ways to meet the Act's requirements.

III. Transcripts

Transcripts will be prepared and posted to NIOSH Docket #226 within 30 days after the meeting. If a person making a comment gives his or her name, no attempt will be made to redact that name. NIOSH will take reasonable steps to ensure that individuals making public comments are aware of the fact that their comments (including their name, if provided) will appear in a transcript of the meeting posted on a public Web site. Such reasonable steps include: (a) A statement read at the start of the meeting stating that transcripts will be posted and names of speakers will not be redacted; and (b) A printed copy of the statement mentioned in (a) above will be displayed on the table where individuals sign up to make public comments. If individuals in making a statement reveal personal information (e.g., medical information) about themselves, that information will not usually be redacted. The CDC Freedom of Information Act coordinator will, however, review such revelations in accordance with the Freedom of Information Act and if deemed appropriate, will redact such information. Disclosures of information concerning third parties will be redacted.

The Director, Management Analysis and Services Office, has been delegated the authority to sign Federal Register Notices pertaining to announcements of meetings and other committee management activities, for both the Centers for Disease Control and Prevention and the Agency for Toxic Substances and Disease Registry.

Dated: February 7, 2011.
Elaine L. Baker,
Director, Management Analysis and Services Office Centers for Disease Control and Prevention.

[FR Doc. 2011-3089 Filed 2-10-11; 8:45 am]

BILLING CODE 4163-18-P